DEPARTMENT OF HOUSING AND URBAN DEVELOPMENT

[Docket No. FR-4491-N-12]

Notice of Intent To Prepare a Generic Environmental Impact Statement for the World Trade Center Memorial and Redevelopment Plan in the Borough of Manhattan, City of New York, NY and Notice of Public Scoping Meeting and Scoping Comment Period

AGENCY: Office of the Assistant Secretary for Community Planning and Development, HUD.

ACTION: Notice of intent.

SUMMARY: In accordance with section 102(2)(C) of the National Environmental Policy Act (NEPA) and implementing regulations of the Council on Environmental Quality (40 CFR parts 1500-1508), the Lower Manhattan Development Corporation (LMDC), a subsidiary of the Empire State Development Corporation (a political subdivision and public benefit corporation of the State of New York), has determined to prepare a Generic Environmental Impact Statement (GEIS) for the World Trade Center Memorial and Redevelopment Plan in order to evaluate related components of the Plan as a single program. The GEIS will be prepared as a joint NEPA and New York State Environmental Quality Review Act (SEQRA) document intended to satisfy the requirements of both federal and state environmental statutes, including 6 NYCRR 617.10(a). This notice is given in accordance with the provisions and requirements of 40 CFR parts 1500-1508.

Lead Agency: In accordance with section 104(g) of the Housing and Community Development Act of 1974 (42 U.S.C. 5304(g)) and HUD's regulations under 24 CFR part 58 (Environmental Review Procedures for Entities Assuming HUD Environmental Responsibilities), HUD has authorized LMDC to assume authority as the NEPA Responsible Entity. The GEIS will also be prepared in cooperation with The Port Authority of New York and New Jersey (Port Authority). LMDC is the SEQRA Lead Agency. Federal agencies with jurisdiction by law, special expertise, or other special interest should report their interest and indicate their willingness to participate in the GEIS process as a Cooperating Agency.

ADDRESSES: Notice of intent to prepare a GEIS is hereby given and all interested federal, state, and local agencies, groups, and the public are invited to comment on the Draft Scope of the GEIS. Written comments on the Draft Scope are requested and will be accepted until 5 p.m. Eastern Daylight Time (EDT) on August 4, 2003, at the following address:

Lower Manhattan Development Corporation, Attention: Comments WTC Memorial and Redevelopment Plan/DGEIS, One Liberty Plaza, New York, NY 10006.

Written comments may also be submitted until 5 p.m. EDT on August 4, 2003, on LMDC's website, www.RenewNYC.com, in “Planning, Design & Development.”

FOR FURTHER INFORMATION CONTACT: Further information and a copy of the Draft Scope may be obtained by contacting Avalon Simon, Legal Assistant, Lower Manhattan Development Corporation, One Liberty Plaza, New York, NY 10006; Telephone: (212) 962-2300; Fax: (212) 962-2431; E-mail: wtcenvironmental@renewnyc.com. A copy of the Draft Scope is also available on LMDC's website: www.RenewNYC.com in “Planning, Design & Development.”

SUPPLEMENTARY INFORMATION:

A. Background

The Proposed Action contemplates the construction of a World Trade Center memorial and memorial-related improvements, up to 10 million square feet of commercial office space, up to one million square feet of retail space, up to one million square feet of conference center and hotel facilities, new open space areas, museum and cultural facilities and certain infrastructure improvements at the World Trade Center site (WTC Site). The WTC Site is bounded generally by Church Street on the east, Liberty Street on the south, West Street on the west and Vesey Street on the north.

The proposed design for the 16-acre former WTC Site would divide it into unequal quadrants in the context of new street configurations: Fulton Street would run east-west through the site and Greenwich Street would run north-south through the site.

The memorial district would encompass the area where the World Trade Center Towers once stood in the southwest quadrant. It would be a sunken area revealing the “slurry” wall on the west side of the WTC Site. The preferred memorial design will be identified in the fall of 2003 and will be described in more detail in the GEIS. Pedestrian access would be provided from September 11 Place at the southwest corner of Fulton and Greenwich Streets, from Greenwich Street halfway down the block south to Liberty Street, and from Liberty Street near West Street. A museum and other cultural facilities would also be provided on the southwest quadrant.

The northwest quadrant would be the location of the 1776 Freedom Tower (a 1,776-foot-tall structure), Heroes Park, office space, ground floor retail, and a performing arts center.

The northeast corner of the WTC Site would be the location of a hotel and office building with ground floor retail. In the southeast quadrant will be an open space area called the Wedge of Light and two office towers with street level retail and access to lower level retail on either side of a pedestrian passageway, Cortlandt Way, extending the view corridor of Cortlandt Street west through the WTC Site.

The portions of the Proposed Action scheduled for initial development include the memorial, memorial-related improvements and museum and cultural facilities, the 1776 Freedom Tower, and certain of the retail uses described above. LMDC, the Port Authority, the Port Authority's net lessees, and Studio Daniel Libeskind are working together to develop design guidelines for these structures.

Alternatives that will be looked at in the GEIS will include a no-build alternative and a reasonable range of other alternatives, such as design alternatives or, if feasible, a ”'no impact” or “reduced impact” alternative that might accomplish LMDC's goals for the Proposed Action, as well as additional alternatives generated by the scoping process.

B. Need for the GEIS

The proposed project may constitute an action significantly affecting the quality of the human environment. Therefore, the lead agency has elected to prepare a GEIS pursuant to 24 CFR part 58 and Article 8 of SEQRA and the Regulations promulgated pursuant thereto at 6 NYCRR part 617. Responses to this notice will be used to: (1) determine significant environmental issues; (2) assist in developing the range of alternatives to be considered; (3) identify interested parties that would like to participate in the GEIS process.

C. Scoping

Two public comment meetings on the Draft Scope have been scheduled for Wednesday, July 23, 2003, from 2 p.m. to 5 p.m. EDT and from 6 p.m. to 9 p.m. EDT at the Tribeca Performing Arts Center at the Borough of Manhattan Community College, 199 Chambers Street (between Greenwich and West Streets), New York, NY. The public meeting site is accessible to the mobility-impaired. Interpreter services will be available for the hearing-impaired upon advance request. Public comments on the Draft Scope will be solicited at the meetings. Following the public meetings on the Draft Scope, the public comment period on the Draft Scope will remain open for written comments, which must be received by LMDC by 5 p.m. EDT on August 4, 2003. Comments should be sent to:

Lower Manhattan Development Corporation,

Attention: Comments WTC Memorial and Redevelopment Plan/DGEIS,

One Liberty Plaza,

New York, NY 10006.

Comments on the Draft Scope may also be submitted until 5 p.m. EDT on August 4, 2003, on LMDC's website: www.RenewNYC.com in “Planning, Design & Development” (visit http://www.renewnyc.com/plan_des_dev/frm_comments.asp, then choose the category “Environmental/Plan Review”).

The Draft Scope will be sent to known interested parties and others requesting copies in advance of the public comment meeting on the Draft Scope. The Draft Scope for the Proposed Action may be viewed at www.RenewNYC.com in the section on “Planning, Design & Development.”

D. GEIS Issues

The Draft Scope identifies the following areas for potential discussion in the GEIS: land use and public policy, socioeconomic conditions; community facilities and services; open space areas and recreational facilities; shadows, historic resources, urban design/visual resources; neighborhood character; hazardous materials; infrastructure, solid waste and sanitation and energy; traffic and parking/transit and pedestrians; air quality; noise; coastal zone; floodplain impacts; construction impacts; and environmental justice.

Questions may be directed to the contact person listed above under the heading FOR FURTHER INFORMATION CONTACT.

Dated: July 1, 2003.
Roy A. Bernardi,
Assistant Secretary for Community, Planning and Development.

[FR Doc. 03-17164 Filed 7-3-03; 8:45 am]

BILLING CODE 4210-29-P